DEPARTMENT OF COMMERCE

National Oceanic and Atmospheric Administration

[I.D. 070301D]

Endangered Fish and Wildlife; Draft Recovery Plan for the Western North Atlantic Right Whale

AGENCY: National Marine Fisheries Service (NMFS), National Oceanic and Atmospheric Administration (NOAA), Commerce.

ACTION: Notice of extension of comment deadline.

SUMMARY: On July 11, 2001, NMFS published notification of the availability of the draft Recovery Plan (Plan) for the western North Atlantic right whale (Eubalaena glacialis) for review and comment by interested parties prior to preparing the final plan for approval and adoption by NMFS. By this notice, NMFS announces an extension of the comment deadline.

DATES: Comments must be postmarked no later than October 25, 2001. Comments will not be accepted if submitted via e-mail or the Internet.

ADDRESSES: Comments should be addressed to Coordinator of Large Whale Recovery Activities, Marine Mammal Division, Office of Protected Resources (F/PR), 1315 East-West Highway, Silver Spring, MD 20910 or faxed to 301/713-0376. A copy of the draft Plan for the North Atlantic right whale is available upon request from F/PR, NMFS, 1315 East-West Highway, Silver Spring, MD 20910.

FOR FURTHER INFORMATION CONTACT: Gregory K. Silber, PH.D., NMFS, F/PR, 301/713-2322.

SUPPLEMENTARY INFORMATION:

Electronic Access

The draft plans are also available through the internet at http://www.nmfs.noaa.gov/prot_res/PR3/recovery.html.

Background

The Endangered Species Act of 1973 (16 U.S.C. 1531 et seq.) requires that NMFS develop and implement recovery plans for the conservation and survival of threatened and endangered species under its jurisdiction unless it is determined that such plans will not promote the conservation of the species. In 1991, NMFS issued the first recovery plan for northern right whales. NMFS, in consultation with key constituent groups and organizations, has prepared an updated draft plan for right whales in the North Atlantic Ocean. The plan discusses the natural history, current status, and the known and potential human impacts to right whales. Actions needed to promote the recovery of this species to promote the recovery of this species are identified and discussed. A Final Recovery Plan will be used to direct U.S. activities, and to encourage international cooperation to promote the recovery of these endangered species.

On July 11, 2001 (66 FR 36260), NMFS published the draft Recovery Plan to be available for review and receive comments by September 10, 2001. By this notice, the comment period is hereby extended until October 25, 2001.

Dated: August 15, 2001.
Wanda L. Cain,
Acting Director, Office of Protected Resources, National Marine Fisheries Service.

[FR Doc. 01-21092 Filed 8-21-01; 8:45 am]

BILLING CODE 3510-22-S